DEPARTMENT OF COMMERCE:

National Oceanic and Atmospheric Administration

[RTID 0648-XD800]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, April 8, 2024 through Thursday, April 11, 2024. Daily schedule is as follows: Monday, April 8, from 8 a.m.-5:30 p.m., Tuesday, April 9 through Thursday, April 11, from 8 a.m.-5 p.m., CDT.

ADDRESSES: The meeting will take place at The Lodge at Gulf State Park, located at 21196 East Beach Boulevard, Gulf Shores, AL 36542. If you prefer to “listen in”, you may access the log-on information by visiting our website at www.gulfcouncil.org.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, April 8, 2024; 8 a.m.-5:30 p.m., CDT

The meeting will begin with the Shrimp Committee reviewing the Biological Review of the Texas Closure, Draft Shrimp Framework Action: Modification of the Vessel Position Data Collection Program for the Gulf of Mexico Shrimp Fishery and the 2022 Gulf Shrimp Fishery Effort. The committee will receive an update on Number of Valid and Renewable Gulf Shrimp Permits and Discussion of Management Implications and review of any remaining items from the March 19-20, 2024 Shrimp Advisory Panel Meeting Summary.

The Gulf SEDAR Committee will review and discuss the Gulf of Mexico SEDAR Schedule, SSC Discussions about the current SEDAR Process, and any remaining items from the March 2024 SEDAR Steering Committee Meeting.

The Data Collection Committee will receive presentations on Discussion of Fisheries Economic Data Collection Methods and Amendment Draft Options.

At approximately 4:15 p.m. until 5:30 p.m., the Council will convene the Full Council in a Closed Session to review Preliminary Appointments to the Reef Fish and Shrimp Advisory Panels, Appointments to the Ad Hoc Red Snapper/Grouper Tilefish Advisory Panel; and, selection of 2023 Law Enforcement Officer or Team of the Year.

Tuesday, April 9, 2024; 8 a.m.-5 p.m., CDT

The Reef Fish Committee will convene to review Reef Fish and Individual Fishing Quota (IFQ) Landings, receive presentation on 2024 Red Grouper and Gag Recreational Season Projections, Discuss Conservation and Management of Wenchman in the Mid-water Snapper Complex, including Background Draft Options: Modification of Mid-Water Snapper Complex Composition and Catch Limits. The committee also will review Draft Options: Reef Fish Amendment 58: Modifications to Shallow-water Grouper Complex Catch Limits and Management Measures. The committee will also hear the February 2023 Gulf SSC Meeting Summary Items: SEDAR 85: Gulf Yellowedge Grouper Assessment and Projections, Fishermen Feedback for SEDAR 85, Other Deepwater Grouper Landings Data and Catch Limits, Gulf of Mexico Red Snapper Research Track SEDAR 74, Comparison of the Reef Fish and Snapper Grouper Fisheries of the Southeastern U.S., and 2024 Gulf Red Group Interim Analysis Review. Lastly, the committee will receive a presentation on Reef Fish Amendment 60: Individual Fishing Quota.

Wednesday, April 10, 2024; 8 a.m.-5 p.m., CDT

The Mackerel Committee will review Coastal Migratory Pelagics (CMP) Landings, Draft Framework Amendment 14: Modifications to Gulf Migratory Group Spanish Mackerel Catch Limits including CMP AP Recommendations, Gulf Migratory Group King Mackerel Management Discussion, CMP Special Engagement Sessions, and any remaining CMP AP Meeting Recommendations.

The Council will reconvene at approximately 10:15 a.m., CDT with a Call to Order, Announcements and Introductions, Adoption of Agenda and Approval of Minutes.

The Council will receive presentations on a Brief Update on Recreational Initiative, Opportunities to Advance Equity and Environmental Justice (EEJ) in Gulf of Mexico Fisheries through the Southeast EEJ Implementation Plan and an Update from Bureau of Ocean Energy Management (BOEM) on Wind Energy Development in the Gulf of Mexico.

The Council will hold public testimony from 1:30 p.m. to 5 p.m., CDT for Comments on the Southeast EEJ Implementation Plan; and open testimony on other fishery issues or concerns. Public comment may begin earlier than 1:30 p.m. CDT, but will not conclude before that time. Persons wishing to give public testimony in-person must register at the registration kiosk in the meeting room. Persons wishing to give public testimony virtually must sign up on the Council website on the day of public testimony. Registration for virtual testimony closes one hour (12:30 p.m. CDT) before public testimony begins.

Thursday, April 11, 2024; 8 a.m.-5 p.m., CDT

The Council will receive Committee reports from Shrimp, Gulf SEDAR, Data Collection, Reef Fish; and, Announcement of 2023 Officer/Team of the Year and committee report from Mackerel Committee. The Council will receive updates from the following supporting agencies: Alabama Law Enforcement Efforts; South Atlantic Fishery Management Council Liaison; NOAA Office of Law Enforcement (OLE); Gulf States Marine Fisheries Commission; U.S. Coast Guard; U.S. Fish and Wildlife Service; and Department of State.

The Council will discuss Other Business items: Litigation Update and Federal Charter Vessel ID Marking Requirements.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: March 15, 2024.
Rey Israel Marquez,
Acting Deputy Director, Office of Sustainable Fisheries, National Marine Fisheries Service.

[FR Doc. 2024-05876 Filed 3-19-24; 8:45 am]

BILLING CODE 3510-22-P